DEPARTMENT OF THE INTERIOR

Geological Survey

National Cooperative Geologic Mapping Program (NCGMP) Advisory Committee

AGENCY: U.S. Geological Survey.

ACTION: Notice of meeting.

SUMMARY: Pursuant to Public Law 106-148, the NCGMP Advisory Committee will meet in Room 1787 of Building 25 at the Federal Center, Denver, CO.

The advisory Committee, composed of scientists from Federal Agencies, State Agencies, academic institutions, and private companies, will advise the Director of the U.S. Geological Survey on planning and implementation of the geologic mapping program.

Topics to be reviewed and discussed by the Advisory Committee include the:

• Progress of the NCGMP towards fulfilling the purposes of the National Geological Mapping Act of 1993

• Updates on the Federal, State, and educational components of the NCGMP

• Report from the Subcommittee on an implementation plan for the National Geological and Geophysical Data Preservation Program

DATES: November 1-2, 2007 commencing at 8:30 a.m. on November 1 and adjourning by 5 p.m. on November 2.

FOR FURTHER INFORMATION CONTACT: Laurel M. Bybell, U.S. Geological Survey, 908 National Center, Reston, Virginia 20192 (703) 648-5281.

SUPPLEMENTARY INFORMATION: Meetings of the National Cooperative Geological Mapping Program Advisory Committee are open to the Public.

Dated: October 16, 2007.
William H. Werkheiser,
Acting Associate Director for Geology, U.S. Geological Survey.

[FR Doc. 07-5189 Filed 10-19-07; 8:45 am]

BILLING CODE 4311-AM-M